DEPARTMENT OF TRANSPORTATION

Federal Aviation Administration

[Summary Notice No. PE-2006-42]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before December 21, 2006.

ADDRESSES: You may submit comments [identified by DOT DMS Docket Number FAA-2006-24982] by any of the following methods: Web site: http://dms.dot.gov. Follow the instructions for submitting comments on the DOT electronic docket site. Fax: 1-202-493-2251. Mail: Docket Management Facility; U.S. Department of Transportation, 400 Seventh Street, SW., Nassif Building, Room PL-401, Washington, DC 20590-001. Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Tim Adams (202) 267-8033, Tyneka L. Thomas (202) 267-7626, or Frances Shaver (202) 267-9681, Office of Rulemaking (ARM-1), Federal Aviation Administration, 800 Independence Avenue, SW., Washington, DC 20591. This notice is published pursuant to 14 CFR 11.85 and 11.91.

Issued in Washington, DC, on November 27, 2006.
Pamela Hamilton-Powell,
Director, Office of Rulemaking.

Petitions For Exemption

Docket No.: FAA-2006-24982.

Petitioner: The Lightship Group.

Section of 14 CFR Affected: Part 121 appendices I and J.

Description of Relief Sought: The Lightship Group is seeking relief from part 121 appendices I and J to allow Lightship employees that perform in international events to be exempt from random drug testing due to the difficulty in reaching an approved lab within the allotted time.

[FR Doc. E6-20354 Filed 11-30-06; 8:45 am]

BILLING CODE 4910-13-P